ENVIRONMENTAL PROTECTION AGENCY

[FRL-10669-01-R6]

Comprehensive Environmental Response, Compensation, and Liability Act; Modified Proposed Administrative Settlement Agreement for Recovery of Response Costs; “Delta Shipyard” Superfund Site in Houma, Terrebonne Parish, LA

AGENCY: Environmental Protection Agency (EPA).

ACTION: Notice of modified proposed settlement; request for public comment.

SUMMARY: In accordance with the Comprehensive Environmental Response, Compensation, and Liability Act (“CERCLA”), notice is hereby given that a modified proposed CERCLA Section 122(h)(1) Cashout Settlement Agreement for Ability to Pay Peripheral Parties (“Proposed Agreement”) associated with the “Delta Shipyard” Superfund Site in Houma, Terrebonne Parish, Louisiana (“Site”) was executed by the Environmental Protection Agency (“EPA”) and is now subject to public comment, after which EPA may modify or withdraw its consent if comments received disclose facts or considerations that indicate that the Proposed Agreement is inappropriate, improper, or inadequate. The modified Proposed Agreement would resolve potential EPA claims under Section 107(a) of CERCLA, against Dean Services West, LLC (“Settling Party”) for EPA response costs at the Delta Shipyard Superfund Site located in the Southeastern section of Houma, Louisiana. The modified settlement is $350,000.00 and was based on an updated Ability to Pay Analysis, which concluded the settling party shall make payment for EPA response costs in 3 yearly installments. For thirty (30) days following the date of publication of this notice, EPA will receive electronic comments relating to the Proposed Agreement. EPA's response to any comments received will be available for public inspection by request. Please see the ADDRESSES section of this notice for special instructions in effect due to impacts related to the COVID-19 pandemic.

DATES: Comments must be received on or before May 30, 2023.

ADDRESSES: As a result of impacts related to the COVID-19 pandemic, requests for documents and submission of comments must be via electronic mail except as provided below. The Proposed Agreement and additional background information relating to the Proposed Agreement are available for public inspection upon request by contacting EPA Assistant Regional Counsel Amy Salinas at salinas.amy@epa.gov. Comments must be submitted via electronic mail to this same email address and should reference the “Delta Shipyard” Superfund Site, Modified Proposed Settlement Agreement” and “EPA CERCLA Docket No. 06-03-19.” Persons without access to electronic mail may call Ms. Salinas at (215) 665-8063 to make alternative arrangements.

FOR FURTHER INFORMATION CONTACT: Amy Salinas at EPA by phone (214) 665-8063 or email at: salinas.amy@epa.gov.

Earthea Nance,
Regional Administrator, Region 6.

[FR Doc. 2023-09045 Filed 4-27-23; 8:45 am]

BILLING CODE 6560-50-P